DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Claiborne County, Tennessee
Docket No.: FEMA-B-1151
Tennessee | Unincorporated Areas of Claiborne County | Clinch River | Approximately 2.3 miles downstream of Big Barren Creek | +1032
|  |  | Approximately 28 miles upstream of Big Sycamore Creek | +1032
* National Geodetic Vertical Datum.
+ North American Vertical Datum.
# Depth in feet above ground.
‸ Mean Sea Level, rounded to the nearest 0.1 meter.
ADDRESSES
Unincorporated Areas of Claiborne County
Maps are available for inspection at the Claiborne County Courthouse, 1740 Main Street, Tazewell, TN 37879.
City of Poquoson, Virginia (Independent City)
Docket No.: FEMA-B-1137
Virginia | City of Poquoson | Chesapeake Bay | At the intersection of Hunt Wood Drive and Oscars Court | +7
Virginia | City of Poquoson | Chesapeake Bay/Cedar Creek | At the intersection of Villa Drive and Huntlandia Way | +7
|  |  | Approximately 400 feet north of the intersection of State Route 171 and City Hall Avenue | +7
* National Geodetic Vertical Datum.
+ North American Vertical Datum.
# Depth in feet above ground.
‸ Mean Sea Level, rounded to the nearest 0.1 meter.
ADDRESSES
City of Poquoson
Maps are available for inspection at the Building Official's Office, 500 City Hall Avenue, Poquoson, VA 23662.

Flooding source(s) | Location of referenced elevation | * Elevation in feet (NGVD) + Elevation in feet (NAVD) # Depth in feet above ground ‸ Elevation in meters (MSL) Modified | Communities affected
Lee County, Alabama, and Incorporated Areas
Docket No.: FEMA-B-1054
Bird Creek | At the confluence with Saugahatchee Creek | +507 | Unincorporated Areas of Lee County.
| Approximately 1.9 miles upstream of the confluence with Saugahatchee Creek | +537
Branch 1 of Saugahatchee Creek | At the confluence with Saugahatchee Creek | +574 | City of Auburn.
| Approximately 622 feet upstream of Dunford Avenue | +673
Branch 1 of Saugahatchee Creek Tributary 1 | At the confluence with Branch 1 of Saugahatchee Creek | +594 | City of Auburn.
| Approximately 1,505 feet upstream of Shug Jordan Parkway | +646
Branch 1 of Saugahatchee Creek Tributary 2 | At the confluence with Branch 1 of Saugahatchee Creek | +607 | City of Auburn.
| Approximately 1,440 feet upstream of Boykin Road | +678
Branch 2 of Saugahatchee Creek | At the confluence with Saugahatchee Creek | +578 | City of Auburn, Unincorporated Areas of Lee County.
| Approximately 640 feet upstream of Gatewood Drive | +693
Branch 2 of Saugahatchee Creek Tributary 1 | At the confluence with Branch 2 of Saugahatchee Creek | +584 | City of Auburn, Unincorporated Areas of Lee County.
| Approximately 2,553 feet upstream of the confluence with Branch 2 of Saugahatchee Creek | +632
Branch 2 of Saugahatchee Creek Tributary 2 | At the confluence with Branch 2 of Saugahatchee Creek | +594 | City of Auburn.
| Approximately 1,581 feet upstream of North Cary Drive | +652
Branch 2 of Saugahatchee Creek Tributary 3 | At the confluence with Branch 2 of Saugahatchee Creek | +606 | City of Auburn.
| Approximately 171 feet upstream of North Dean Road | +716
Branch 2 of Saugahatchee Creek Tributary 3.1 | At the confluence with Branch 2 of Saugahatchee Creek Tributary 3 | +637 | City of Auburn.
| Approximately 801 feet upstream of Hollins Road | +707
Branch 2 of Saugahatchee Creek Tributary 4 | At the confluence with Branch 2 of Saugahatchee Creek | +673 | City of Auburn.
| Approximately 201 feet upstream of Rick Drive | +726
Branch of Parkerson Mill Creek | Approximately 471 feet downstream of Timberwood Drive | +441 | City of Auburn, Unincorporated Areas of Lee County.
| Approximately 39 feet upstream of Timberwood Drive | +447
Chewacla Creek | Approximately 1,500 feet upstream of the Lee County boundary | +354 | City of Auburn, Unincorporated Areas of Lee County.
| Approximately 3,592 feet upstream of Lee Road 112 | +557
Chewacla Creek Tributary 12 | At the confluence with Chewacla Creek | +550 | Unincorporated Areas of Lee County.
| Approximately 2,807 feet upstream of Johnson Lake earthen dam | +558
Chewacla Creek Tributary 14 | At the confluence with Chewacla Creek | +539 | Unincorporated Areas of Lee County.
| Approximately 2,999 feet upstream of the confluence with Chewacla Creek | +548
Chewacla Creek Tributary 15 | At the confluence with Chewacla Creek | +533 | Unincorporated Areas of Lee County.
| Approximately 4,154 feet upstream of the confluence with Chewacla Creek | +555
Chewacla Creek Tributary 23 | At the confluence with Chewacla Creek | +436 | City of Auburn, Unincorporated Areas of Lee County.
| Approximately 157 feet upstream of Springhill Drive | +484
Chewacla Creek Tributary 29 | At the confluence with Chewacla Creek | +369 | Unincorporated Areas of Lee County.
| Approximately 3,138 feet upstream of the confluence with Chewacla Creek | +384
Choctafaula Creek | Approximately 505 feet upstream of the Lee County boundary | +375 | City of Auburn, Unincorporated Areas of Lee County.
| Approximately 1.5 miles upstream of Beehive Road | +474
Choctafaula Creek Tributary 10 | At the confluence with Choctafaula Creek | +468 | Unincorporated Areas of Lee County.
| Approximately 1,552 feet upstream of the earthen dam | +534
Choctafaula Creek Tributary 10.1 | At the confluence with Choctafaula Creek | +487 | Unincorporated Areas of Lee County.
| Approximately 2,848 feet upstream of the confluence | +527
Choctafaula Creek Tributary 9 | At the confluence with Choctafaula Creek | +465 | City of Auburn, Unincorporated Areas of Lee County.
| Approximately 1.7 feet upstream of Wire Road | +632
Cossey Branch | Approximately 1,954 feet upstream of the Lee County boundary | +356 | Unincorporated Areas of Lee County.
| Approximately 1.1 miles upstream of Highway 29 | +452
Cossey Branch Tributary 5 | At the confluence with Cossey Branch | +380 | Unincorporated Areas of Lee County.
| Approximately 5,610 feet upstream of the confluence with Cossey Branch | +403
Cossey Branch Tributary 8 | At the confluence with Cossey Branch | +407 | Unincorporated Areas of Lee County.
| Approximately 1.0 mile upstream of the confluence with Cossey Branch | +428
Halawakee Creek Tributary 8 | At the confluence with Halawakee Creek | +645 | City of Opelika, Unincorporated Areas of Lee County.
| Approximately 2,282 feet upstream of Jeter Avenue | +748
Halawakee Creek Tributary 8.5 | At the confluence with Halawakee Creek Tributary 8 | +649 | City of Opelika.
| Approximately 2,000 feet upstream of the confluence with Halawakee Creek Tributary 8 | +653
Halawakee Creek Tributary 8.6 | At the confluence with Halawakee Creek Tributary 8 | +668 | City of Opelika.
| Approximately 254 feet upstream of U.S. Route 280 | +677
Halawakee Creek Tributary 8.7 | At the confluence with Halawakee Creek Tributary 8 | +679 | City of Opelika.
| Approximately 1,067 feet upstream of South Fox Run Parkway | +712
Halawakee Creek Tributary 8.7.3 | At the confluence with Halawakee Creek Tributary 8.7 | +693 | City of Opelika.
| Approximately 4,500 feet upstream of the confluence with Halawakee Creek Tributary 8.7 | +718
Halawakee Creek Tributary 8.8 | At the confluence with Halawakee Creek Tributary 8 | +679 | City of Opelika.
| Approximately 269 feet upstream of Jeter Avenue | +707
Halawakee Tributary 8.7.1 | At the confluence with Halawakee Creek Tributary 8.7 | +689 | City of Opelika.
| Approximately 2,538 feet upstream of the confluence with Halawakee Creek Tributary 8.7 | +707
Halawakee Tributary 8.7.2 | At the confluence with Halawakee Creek Tributary 8.7 | +693 | City of Opelika.
| Approximately 1,585 feet upstream of Highway 51 | +717
Little Loblockee Creek | At the confluence with Loblockee Creek | +598 | City of Auburn, Unincorporated Areas of Lee County.
| Approximately 2.2 miles upstream of Highway 280 | +701
Loblockee Creek | At the confluence with Saugahatchee Creek | +522 | Unincorporated Areas of Lee County.
| Approximately 11,694 feet upstream of U.S. Route 280 | +686
Loblockee Creek Tributary 12 | At the confluence with Loblockee Creek | +612 | Unincorporated Areas of Lee County.
| Approximately 3,748 feet upstream of the confluence with Loblockee Creek | +631
Loblockee Creek Tributary 3 | At the confluence with Loblockee Creek | +562 | City of Auburn, Unincorporated Areas of Lee County.
| Approximately 2.0 miles upstream of Farmville Road | +666
Miles Creek | Approximately 188 feet upstream of the Lee County boundary | +386 | Unincorporated Areas of Lee County.
| Approximately 881 feet upstream of County Road 393 | +458
Moore's Mill Creek | At the confluence with Chewacla Creek | +414 | City of Auburn, City of Opelika, Unincorporated Areas of Lee County.
| Approximately 2.0 miles upstream of Bent Creek Road | +687
Moore's Mill Creek Tributary 2 | At the confluence with Moore's Mill Creek | +527 | City of Auburn.
| Approximately 1,561 feet upstream of VFW Road | +609
Moore's Mill Creek Tributary 3 | At the confluence with Moore's Mill Creek | +531 | City of Auburn.
| Approximately 86 feet upstream of the earthen dam | +594
Moore's Mill Creek Tributary 4 | At the confluence with Moore's Mill Creek | +543 | City of Auburn.
| Approximately 1,135 feet upstream of Core Drive | +608
Moore's Mill Creek Tributary 5 | At the confluence with Moore's Mill Creek | +553 | City of Auburn.
| Approximately 85 feet upstream of Lauren Lane | +628
Moore's Mill Creek Tributary 6 | At the confluence with Moore's Mill Creek | +573 | City of Auburn.
| Approximately 562 feet upstream of Burke Place | +706
Moore's Mill Creek Tributary 6.2 | At the confluence with Moore's Mill Creek Tributary 6 | +618 | City of Auburn.
| Approximately 3,057 feet upstream of East University Drive | +707
Nash Creek | At the confluence with Chewacla Creek | +495 | City of Auburn, Unincorporated Areas of Lee County.
| Approximately 142 feet upstream of Society Hill Road | +548
Nash Creek Tributary 1 | At the confluence with Nash Creek | +537 | City of Auburn, Unincorporated Areas of Lee County.
| Approximately 2,366 feet upstream of the confluence with Nash Creek | +578
Odom Creek | At the confluence with Cossey Branch | +412 | Unincorporated Areas of Lee County.
| Approximately 1.2 miles upstream of County Road 27 | +447
Parkerson Mill Creek | At the confluence with Chewacla Creek | +387 | City of Auburn, Unincorporated Areas of Lee County.
| Approximately 2,604 feet upstream of Wire Road | +645
Parkerson Mill Creek Tributary 10 | At the confluence with Parkerson Mill Creek | +597 | City of Auburn.
| Approximately 2,801 feet upstream of the confluence with Parkerson Mill Creek | +650
Parkerson Mill Creek Tributary 3 | At the confluence with Parkerson Mill Creek | +514 | City of Auburn, Unincorporated Areas of Lee County.
| Approximately 1,469 feet upstream of Longleaf Drive | +576
Parkerson Mill Creek Tributary 6 | At the confluence with Parkerson Mill Creek | +527 | City of Auburn, Unincorporated Areas of Lee County.
| Approximately 367 feet upstream of Webster Road | +657
Parkerson Mill Creek Tributary 6.1 | At the confluence with Parkerson Mill Creek Tributary 6 | +606 | City of Auburn, Unincorporated Areas of Lee County.
| Approximately 339 feet upstream of Webster Road | +637
Parkerson Mill Creek Tributary 6.2 | At the confluence with Parkerson Mill Creek Tributary 6 | +587 | City of Auburn, Unincorporated Areas of Lee County.
| Approximately 116 feet upstream of Raptor Road | +631
Parkerson Mill Creek Tributary 7 | At the confluence with Parkerson Mill Creek | +530 | City of Auburn.
| Approximately 1,557 feet upstream of the confluence with Parkerson Mill Creek Tributary 7 | +566
Parkerson Mill Creek Tributary 7.1 | At the confluence with Parkerson Mill Creek Tributary 7 | +546 | City of Auburn.
| Approximately 538 feet upstream of the earthen dam | +569
Parkerson Mill Creek Tributary 9 | At the confluence with Parkerson Mill Creek | +568 | City of Auburn.
| Approximately 157 feet upstream of Shug Jordan Parkway | +687
Pepperell Creek | Approximately 120 feet upstream of Gateway Drive | +710 | City of Opelika.
| Approximately 68 feet upstream of Fruitland Avenue | +753
Pepperell Creek Tributary 4 | At the confluence with Pepperell Creek | +707 | City of Opelika.
| Approximately 2,554 feet upstream of U.S. Route 280 | +753
Pepperell Creek Tributary 7 | At the confluence with Pepperell Creek | +723 | City of Opelika.
| Approximately 742 feet upstream of South Long Street | +740
Pepperell Creek Tributary 8 | At the confluence with Pepperell Creek | +726 | City of Opelika.
| Approximately 158 feet upstream of Hurst Street | +740
Robinson Creek | At the confluence with Chewacla Creek | +557 | Unincorporated Areas of Lee County.
| Approximately 2.6 miles upstream of Moores Mill Road | +618
Rocky Creek | Approximately 1,370 feet downstream of India Road | +717 | City of Opelika.
| Approximately 279 feet upstream of Rocky Brook Road | +752
Rocky Creek Tributary 6 | At the confluence with Rocky Creek | +683 | City of Opelika.
| Approximately 271 feet upstream of Bonita Avenue | +720
Rocky Creek Tributary 7 | At the confluence with Rocky Creek | +696 | City of Opelika.
| Approximately 146 feet upstream of Preston Street | +776
Rocky Creek Tributary 9 | At the confluence with Rocky Creek | +719 | City of Opelika.
| Approximately 1,246 feet upstream of the confluence with Rocky Creek | +734
Saugahatchee Creek 34.4 | At the confluence with Saugahatchee Creek Tributary 34 | +589 | City of Auburn.
| Approximately 3,190 feet upstream of Willow Creek Road | +641
Saugahatchee Creek 34.5 | At the confluence with Saugahatchee Creek Tributary 34 | +590 | City of Auburn, Unincorporated Areas of Lee County.
| Approximately 5,000 feet upstream of the confluence with Saugahatchee Creek Tributary 34 | +658
Saugahatchee Creek 34.5.2 | At the confluence with Saugahatchee Creek Tributary 34.5 | +599 | City of Auburn.
| Approximately 2,000 feet upstream of the confluence with Saugahatchee Creek Tributary 34.5 | +621
Saugahatchee Creek 34.7 | At the confluence with Saugahatchee Creek Tributary 34 | +642 | City of Auburn.
| Approximately 1,115 feet upstream of Martin Luther King Drive | +669
Saugahatchee Creek Tributary 18 | At the confluence with Saugahatchee Creek | +613 | City of Opelika, Unincorporated Areas of Lee County.
| Approximately 711 feet upstream of the railroad | +721
Saugahatchee Creek Tributary 29 | At the confluence with Saugahatchee Creek | +571 | City of Auburn, Unincorporated Areas of Lee County.
| Approximately 3,331 feet upstream of the confluence with Saugahatchee Creek | +642
Saugahatchee Creek Tributary 34 | At the confluence with Saugahatchee Creek | +553 | City of Auburn, Unincorporated Areas of Lee County.
| Approximately 1.7 miles upstream of the confluence with Saugahatchee Creek | +688
Saugahatchee Creek Tributary 34.3 | At the confluence with Saugahatchee Creek Tributary 34 | +568 | City of Auburn, Unincorporated Areas of Lee County.
| Approximately 3,949 feet upstream of the confluence with Saugahatchee Creek Tributary 34 | +614
Saugahatchee Creek Tributary 44 | At the confluence with Saugahatchee Creek | +540 | Unincorporated Areas of Lee County.
| Approximately 9,127 feet upstream of the confluence with Saugahatchee Creek | +573
Town Creek | At the confluence with Chewacla Creek | +401 | City of Auburn, Unincorporated Areas of Lee County.
| Approximately 796 feet upstream of Thach Avenue | +601
Town Creek Tributary 1 | At the confluence with Town Creek | +460 | City of Auburn, Unincorporated Areas of Lee County.
| Approximately 602 feet upstream of Donahue Drive | +589
Town Creek Tributary 2 | At the confluence with Town Creek | +512 | City of Auburn.
| Approximately 1,319 feet upstream of Janabrooke Lane | +540
Town Creek Tributary 3 | At the confluence with Town Creek | +584 | City of Auburn.
| Approximately 112 feet upstream of East University Drive | +614
Town Creek Tributary 4 | At the confluence with Town Creek | +590 | City of Auburn.
| Approximately 404 feet upstream of College Street | +654
Town Creek Tributary 6 | At the confluence with Town Creek | +631 | City of Auburn.
| Approximately 331 feet upstream of Thach Avenue | +656
Unnamed Tributary 1 | Approximately 52 feet upstream of the Lee County boundary | +376 | Unincorporated Areas of Lee County.
| Approximately 976 feet upstream of the Lee County boundary | +400
Unnamed Tributary 2 | Approximately 120 feet upstream of the Lee County boundary | +372 | Unincorporated Areas of Lee County.
| Approximately 1,500 feet upstream of the Lee County boundary | +384
Webb Branch | At the confluence with Loblockee Creek | +594 | Unincorporated Areas of Lee County.
| Approximately 2.7 miles upstream of Farmville Road | +655
Webb Branch Tributary 3 | At the confluence with Webb Branch | +599 | Unincorporated Areas of Lee County.
| Approximately 2,340 feet upstream of the confluence with Webb Branch | +606
Webb Branch Tributary 4 | At the confluence with Webb Branch | +611 | Unincorporated Areas of Lee County.
| Approximately 2,461 feet upstream of the confluence with Webb Branch | +624
* National Geodetic Vertical Datum.
+ North American Vertical Datum.
# Depth in feet above ground.
‸ Mean Sea Level, rounded to the nearest 0.1 meter.
ADDRESSES
City of Auburn
Maps are available for inspection at 144 Tichenor Avenue, Suite 1, Auburn, AL 36830.
City of Opelika
Maps are available for inspection at the Planning Department, 700 Fox Trail, Opelika, AL 36803.
Unincorporated Areas of Lee County
Maps are available for inspection at 909 Avenue A, Opelika, AL 36801.
Hardin County, Illinois, and Incorporated Areas
Docket No.: FEMA-B-1134
Beaver Creek | Approximately 1.58 miles upstream of IL-1 | +366 | Unincorporated Areas of Hardin County.
| Approximately 1.92 miles upstream of IL-1 | +366
Ohio River | Approximately 1.34 miles downstream of Ferry Road extended (River Mile 894) | +356 | City of Rosiclare, Unincorporated Areas of Hardin County, Village of Elizabethtown.
| Approximately 1.97 miles upstream of Main Street extended (River Mile 887) | +359
Unnamed Tributary to Beaver Creek (East) | Approximately 1,500 feet upstream of the confluence with Beaver Creek | +366 | Unincorporated Areas of Hardin County.
| Approximately 0.69 mile upstream of the confluence with Beaver Creek | +366
Unnamed Tributary to Beaver Creek (West) | Approximately 1,500 feet upstream of the confluence with Beaver Creek | +366 | Unincorporated Areas of Hardin County.
| Approximately 0.99 mile upstream of the confluence with Beaver Creek | +366
Unnamed Tributary to Saline River | Approximately 1,800 feet upstream of the confluence with the Saline River | +366 | Unincorporated Areas of Hardin County.
| Approximately 2,000 feet upstream of the confluence with the Saline River | +366
* National Geodetic Vertical Datum.
+ North American Vertical Datum.
# Depth in feet above ground.
‸ Mean Sea Level, rounded to the nearest 0.1 meter.
ADDRESSES
City of Rosiclare
Maps are available for inspection at City Hall, Main Street, Rosiclare, IL 62982.
Unincorporated Areas of Hardin County
Maps are available for inspection at the Hardin County Courthouse, 203 North Main Street, Elizabethtown, IL 62931.
Village of Elizabethtown
Maps are available for inspection at the Village Hall, 1 Locust Street, Elizabethtown, IL 62931.
McCracken County, Kentucky, and Incorporated Areas
Docket No.: FEMA-B-1144
Arnold Branch (backwater effects from Ohio River) | From the confluence with Blizzards Ponds Drainage Ditch to approximately 0.7 mile upstream of the Blizzards Ponds Drainage Canal | +341 | Unincorporated Areas of McCracken County.
Bayou Creek (backwater effects from Ohio River) | From the confluence with the Ohio River to approximately 1.0 mile downstream of Ogden Landing Road | +336 | Unincorporated Areas of McCracken County.
Blizzards Ponds Drainage Canal (backwater effects from Ohio River) | From the confluence with West Fork Clarks River to approximately 275 feet upstream of Husband Road | +341 | Unincorporated Areas of McCracken County.
Camp Creek (backwater effects from Ohio River) | From the confluence with West Fork Clarks River to approximately 0.5 mile downstream of KY-348 | +341 | Unincorporated Areas of McCracken County.
Clarks River (backwater effects from Ohio River) | From the confluence with the Ohio River to approximately 0.7 mile upstream of KY-787 | +341 | Unincorporated Areas of McCracken County.
Crooked Creek | At the confluence with Perkins Creek | +363 | Unincorporated Areas of McCracken County.
| Approximately 400 feet upstream of U.S. Route 62 | +402
Cross Creek | Just upstream of the Illinois Central Railroad Yard | +331 | Unincorporated Areas of McCracken County.
| Approximately 345 feet upstream of South 24th Street | +341
Deer Lick Creek (backwater effects from Ohio River) | From the confluence with the Ohio River to approximately 2.9 miles upstream of the confluence with the Ohio River | +336 | Unincorporated Areas of McCracken County.
Horse Branch (backwater effects from Ohio River) | From the confluence with the Clarks River to approximately 85 feet downstream of Georgia Street South | +341 | Unincorporated Areas of McCracken County.
Island Creek Tributary 6.1 (backwater effects from Island Creek) | From the confluence with Island Creek to approximately 800 feet downstream of I-24 | +336 | Unincorporated Areas of McCracken County.
Little Bayou Creek (backwater effects from Ohio River) | From the confluence with Bayou Creek to approximately 2.3 miles downstream of Ogden Landing Road | +336 | Unincorporated Areas of McCracken County.
Little Massac Creek (backwater effects from West Fork Massac Creek) | From the confluence with West Fork Massac Creek to approximately 1,000 feet upstream of the confluence with West Fork Massac Creek | +378 | Unincorporated Areas of McCracken County.
Middle Fork Massac Creek | Approximately 1,800 feet upstream of the confluence with Massac Creek | +352 | City of Paducah, Unincorporated Areas of McCracken County.
| Approximately 1,700 feet upstream of McCracken Boulevard | +354
Nasty Creek (backwater effects from Ohio River) | From the confluence with Newtons Creek I to approximately 0.6 mile upstream of Grief Road | +335 | Unincorporated Areas of McCracken County.
Newtons Creek I (backwater effects from Ohio River) | From the confluence with the Ohio River to approximately 0.7 mile upstream of Grief Road | +335 | Unincorporated Areas of McCracken County.
Ohio River | Approximately 1,700 feet downstream of the confluence with Redstone Creek | +334 | City of Paducah, Unincorporated Areas of McCracken County.
| Approximately 2.0 miles upstream of the confluence with the Tennessee River | +340
Perkins Creek | At the confluence with the Ohio River | +339 | City of Paducah, Unincorporated Areas of McCracken County.
| Approximately 0.5 mile upstream of Blandville Road | +399
Perkins Creek Tributary 4 (backwater effects from Ohio River) | From the confluence with Perkins Creek to approximately 80 feet downstream of U.S. Route 60 | +339 | City of Paducah, Unincorporated Areas of McCracken County.
Redstone Creek (backwater effects from Ohio River) | From the confluence with Redstone Creek Tributary 5 to approximately 0.6 mile upstream of the confluence with Redstone Creek Tributary 5 | +335 | Unincorporated Areas of McCracken County.
Redstone Creek Tributary 5 (backwater effects from Ohio River) | From the confluence with Redstone Creek to approximately 0.5 mile upstream of the confluence with Redstone Creek | +335 | Unincorporated Areas of McCracken County.
Tennessee River | At the confluence with the Ohio River | +340 | City of Paducah, Unincorporated Areas of McCracken County.
| Approximately 3.0 miles upstream of U.S. Route 60 | +341
West Fork Clarks River (backwater effects from Ohio River) | From the confluence with Clarks River to approximately 3.7 miles upstream of the confluence with Camp Creek at the county boundary | +341 | Unincorporated Areas of McCracken County.
West Fork Massac Creek (backwater effects from Ohio River) | From the confluence with Massac Creek to approximately 2,000 feet upstream of Wilmington Road | +338 | Unincorporated Areas of McCracken County.
* National Geodetic Vertical Datum.
+ North American Vertical Datum.
# Depth in feet above ground.
‸ Mean Sea Level, rounded to the nearest 0.1 meter.
ADDRESSES
City of Paducah
Maps are available for inspection at City Hall, 300 South 5th Street, Paducah, KY 42002.
Unincorporated Areas of McCracken County
Maps are available for inspection at the McCracken County Courthouse, 301 South 6th Street, Paducah, KY 42003.
Clearfield County, Pennsylvania (All Jurisdictions)
Docket No.: FEMA-B-1100
Clear Run | Approximately 580 feet upstream of U.S. Route 219 | +1405 | City of DuBois.
| Approximately 220 feet upstream of Juniata Street | +1420
Laurel Run No. 1 | Approximately 2,690 feet downstream of the confluence with Laurel Run Tributary A | +1467 | Township of Boggs.
| Approximately 2,625 feet downstream of the confluence with Laurel Run Tributary A | +1467
Pentz Run | Approximately 435 feet downstream of U.S. Route 219 | +1409 | Township of Sandy.
| Approximately 360 feet downstream of U.S. Route 219 | +1410
Pentz Run Tributary | Approximately 195 feet upstream of the confluence with Pentz Run | +1410 | Township of Sandy.
| Approximately 125 feet downstream of Forest Avenue | +1412
West Branch Susquehanna River | Approximately 4,485 feet downstream of U.S. Route 219 | +1323 | Township of Burnside.
| Approximately 2,275 feet downstream of U.S. Route 219 | +1325
| Approximately 1,910 feet downstream of the confluence with Rock Run No. 2 | +1332
| Approximately 1,475 feet downstream of the confluence with Rock Run No. 2 | +1333
* National Geodetic Vertical Datum.
+ North American Vertical Datum.
# Depth in feet above ground.
‸ Mean Sea Level, rounded to the nearest 0.1 meter.
ADDRESSES
City of DuBois
Maps are available for inspection at 16 West Scribner Avenue, DuBois, PA 15801.
Township of Boggs
Maps are available for inspection at 150 Blue Ball Road, West Decatur, PA 16878.
Township of Burnside
Maps are available for inspection at 2447 Ridge Road, Westover, PA 16692.
Township of Sandy
Maps are available for inspection at 1094 Chestnut Avenue, DuBois, PA 15801.

(Catalog of Federal Domestic Assistance No. 97.022, “Flood Insurance.”)

Dated: October 17, 2011.
Sandra K. Knight,
Deputy Federal Insurance and Mitigation Administrator, Mitigation, Department of Homeland Security, Federal Emergency Management Agency.

[FR Doc. 2011-28538 Filed 11-2-11; 8:45 am]

BILLING CODE 9110-12-P